Title 3—

The President

Executive Order 13817 of December 20, 2017

A Federal Strategy To Ensure Secure and Reliable Supplies of Critical Minerals

By the authority vested in me as President by the Constitution and the laws of the United States of America, it is hereby ordered as follows:

Section 1. Findings. The United States is heavily reliant on imports of certain mineral commodities that are vital to the Nation's security and economic prosperity. This dependency of the United States on foreign sources creates a strategic vulnerability for both its economy and military to adverse foreign government action, natural disaster, and other events that can disrupt supply of these key minerals. Despite the presence of significant deposits of some of these minerals across the United States, our miners and producers are currently limited by a lack of comprehensive, machine-readable data concerning topographical, geological, and geophysical surveys; permitting delays; and the potential for protracted litigation regarding permits that are issued. An increase in private-sector domestic exploration, production, recycling, and reprocessing of critical minerals, and support for efforts to identify more commonly available technological alternatives to these minerals, will reduce our dependence on imports, preserve our leadership in technological innovation, support job creation, improve our national security and balance of trade, and enhance the technological superiority and readiness of our Armed Forces, which are among the Nation's most significant consumers of critical minerals.

Sec. 2. Definition. (a) A “critical mineral” is a mineral identified by the Secretary of the Interior pursuant to subsection (b) of this section to be (i) a non-fuel mineral or mineral material essential to the economic and national security of the United States, (ii) the supply chain of which is vulnerable to disruption, and (iii) that serves an essential function in the manufacturing of a product, the absence of which would have significant consequences for our economy or our national security.

(b) The Secretary of the Interior, in coordination with the Secretary of Defense and in consultation with the heads of other relevant executive departments and agencies (agencies), shall publish a list of critical minerals in the Federal Register not later than 60 days after the date of this order, and disseminate such list to the appropriate agencies.

Sec. 3. Policy. It shall be the policy of the Federal Government to reduce the Nation's vulnerability to disruptions in the supply of critical minerals, which constitutes a strategic vulnerability for the security and prosperity of the United States. The United States will further this policy for the benefit of the American people and in a safe and environmentally responsible manner, by:

(a) identifying new sources of critical minerals;

(b) increasing activity at all levels of the supply chain, including exploration, mining, concentration, separation, alloying, recycling, and reprocessing critical minerals;

(c) ensuring that our miners and producers have electronic access to the most advanced topographic, geologic, and geophysical data within U.S. territory to the extent permitted by law and subject to appropriate limitations for purposes of privacy and security, including appropriate limitations to protect critical infrastructure data such as those related to national security areas; and

(d) streamlining leasing and permitting processes to expedite exploration, production, processing, reprocessing, recycling, and domestic refining of critical minerals.

Sec. 4. Implementation. (a) Within 180 days of the date that the Secretary of the Interior publishes a list of critical minerals under section 2 of this order, the Secretary of Commerce, in coordination with the Secretaries of Defense, the Interior, Agriculture, and Energy, and the United States Trade Representative, shall submit a report to the President through the Assistant to the President for Economic Policy, the Assistant to the President for National Security Affairs, the Director of the Office of Management and Budget, and the Director of the Office of Science and Technology Policy. The report shall include:

(i) a strategy to reduce the Nation's reliance on critical minerals;

(ii) an assessment of progress toward developing critical minerals recycling and reprocessing technologies, and technological alternatives to critical minerals;

(iii) options for accessing and developing critical minerals through investment and trade with our allies and partners;

(iv) a plan to improve the topographic, geologic, and geophysical mapping of the United States and make the resulting data and metadata electronically accessible, to the extent permitted by law and subject to appropriate limitations for purposes of privacy and security, to support private sector mineral exploration of critical minerals; and

(v) recommendations to streamline permitting and review processes related to developing leases; enhancing access to critical mineral resources; and increasing discovery, production, and domestic refining of critical minerals.

(b) Agencies shall implement subsection (a) of this section in a manner consistent with, and when possible complementary to, implementation of Executive Order 13771 of January 30, 2017 (Reducing Regulation and Controlling Regulatory Costs), Executive Order 13783 of March 28, 2017 (Promoting Energy Independence and Economic Growth), Executive Order 13807 of August 15, 2017 (Establishing Discipline and Accountability in the Environmental Review and Permitting Process for Infrastructure Projects), and Executive Order 12866 of September 30, 1993 (Regulatory Planning and Review).

Sec. 5. General Provisions. (a) Nothing in this order shall be construed to impair or otherwise affect:

(i) the authority granted by law to an executive department or agency, or the head thereof;

(ii) the functions of the Director of the Office of Management and Budget relating to budgetary, administrative, or legislative proposals; or

(iii) existing treaties or international agreements relating to mineral production, imports, or exports.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

December 20, 2017.

[FR Doc. 2017-27899

Filed 12-22-17; 8:45 am]

Billing code 3295-F8-P